DEPARTMENT OF DEFENSE

GENERAL SERVICES ADMINISTRATION

NATIONAL AERONAUTICS AND SPACE ADMINISTRATION

48 CFR Part 52

[FAC 2001-08; Item IV]

Federal Acquisition Regulation; Technical Amendments

AGENCIES: Department of Defense (DoD), General Services Administration (GSA), and National Aeronautics and Space Administration (NASA).

ACTION: Final rule.

SUMMARY: This document makes amendments to the Federal Acquisition Regulation in order to update references and make editorial changes.

DATES: Effective Date: July 29, 2002.

FOR FURTHER INFORMATION CONTACT: The FAR Secretariat, Room 4035, GS Building, Washington, DC 20405, (202) 501-4755. Please cite FAC 2001-08, Technical Amendments.

List of Subjects in 48 CFR Part 52

Government procurement.

Dated: June 19, 2002.
Al Matera,
Director, Acquisition Policy Division.

Therefore, DoD, GSA, and NASA amend 48 CFR part 52 as set forth below:

PART 52—SOLICITATION PROVISIONS AND CONTRACT CLAUSES

1. The authority citation for 48 CFR part 52 continues to read as follows:

Authority: 40 U.S.C. 486(c); 10 U.S.C. chapter 137; and 42 U.S.C. 2473(c).

52.202-1 [Amended]

2. Amend section 52.202-1 by removing from Alternate I “(Mar 2001)” and adding “(May 2001)” in its place.

52.212-3 [Amended]

3. Amend section 52.212-3 in the provision heading by removing “(May 2002)” and adding “(July 2002)” in its place; removing from paragraph (c)(10)(i) of the provision “principal place of ownership” and adding “principal office” in its place; and removing from the first sentence of paragraph (c)(10)(ii) “on the joint” and adding “in the joint” in its place.

52.225-11 [Amended]

4. Amend section 52.225-11 in the clause heading by removing “(May 2002)” and adding “(July 2002)” in its place; and in the third sentence of paragraph (b)(1) of the clause by removing “and Balance of Payments Program”.

[FR Doc. 02-15943 Filed 6-26-02; 8:45 am]

BILLING CODE 6820-EP-P